NUCLEAR REGULATORY COMMISSION

[Docket No. 52-024; NRC-2008-0233]

Entergy Operations, Inc.; Grand Gulf, Unit 3

AGENCY: Nuclear Regulatory Commission.

ACTION: Application for combined license; withdrawal.

SUMMARY: The U.S. Nuclear Regulatory Commission (NRC) is withdrawing an application for a combined license (COL) for a single unit of the Economic Simplified Boiling-Water Reactor (ESBWR). This reactor would be identified as Grand Gulf Nuclear Station, Unit 3 (GGNS3) and is located adjacent to the current Grand Gulf Nuclear Station site in Claiborne County, Mississippi.

DATES: The effective date of the withdrawal of the application for combined license is September 22, 2015.

ADDRESSES: Please refer to Docket ID NRC-2008-0233 when contacting the NRC about the availability of information regarding this document. You may obtain publicly-available information related to this action by the following methods:

• Federal Rulemaking Web site: Go to http://www.regulations.gov and search for docket ID NRC-2008-0233. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced.

• NRC's PDR: You may examine and purchase copies of public documents at the NRC's PDR, Room O1-F21, One White Flint North, 11555 Rockville Pike, Rockville, Maryland 20852.

FOR FURTHER INFORMATION CONTACT: Adrian Muñiz, Office of New Reactors, U.S. Nuclear Regulatory Commission, Washington, DC, 20555-0001; telephone: 301-415-4093; email: Adrian.Muniz@nrc.gov.

SUPPLEMENTARY INFORMATION: A notice of receipt and availability of this application was previously published in the Federal Register (73 FR 14849) on March 19, 2008. On April 24, 2008, a subsequent notice was published in the Federal Register (73 FR 22180) announcing the acceptance of the GGNS3 COL application for docketing in accordance with part 2 of Title 10 of the Code of Federal Regulations (10 CFR), “Agency Rules of Practice and Procedure,” and 10 CFR part 52, “Licenses, Certifications, and Approvals for Nuclear Power Plants.” The docket number established for this application is 52-024.

By letter dated January 9, 2009, Entergy Operations, Inc. (EOI) requested that the NRC temporarily suspend the COL application review, including any supporting reviews by external agencies, until further notice (ADAMS Accession No. ML090130174). The NRC granted the suspension request (ADAMS Accession No. ML090080523). By letter dated February 9, 2015, EOI requested the NRC to withdraw the GGNS3 COL application, including the Safeguards/Security Part, from the docket (ADAMS Accession No. ML15040A078). Pursuant to the requirements in 10 CFR part 2, the Commission grants EOI its request to withdraw the GGNS3 COL application.

Dated at Rockville, Maryland, this 15th day of September, 2015.
For the Nuclear Regulatory Commission.
Francis M. Akstulewicz,
Director, Division of New Reactor Licensing, Office of New Reactors.

[FR Doc. 2015-24032 Filed 9-21-15; 8:45 am]

BILLING CODE 7590-01-P